ENVIRONMENTAL PROTECTION AGENCY

[EPA-HQ-OAR-2017-0599; FRL-9971-44-OAR]

Proposed Information Collection Request; Comment Request; Recordkeeping and Reporting for the Renewable Fuel Standard Program

AGENCY: Environmental Protection Agency (EPA).

ACTION: Notice.

SUMMARY: The Environmental Protection Agency is planning to submit an information collection request (ICR), “Recordkeeping and Reporting for the Renewable Fuel Standard (RFS) Program,” EPA ICR No. 2546.01, OMB Control No. 2060-NEW) to the Office of Management and Budget (OMB) for review and approval in accordance with the Paperwork Reduction Act (PRA), 44 U.S.C. 3501 et seq. Before doing so, EPA is soliciting public comments on specific aspects of the proposed information collection as described below. This is a request for approval of a new collection. An Agency may not conduct or sponsor and a person is not required to respond to a collection of information unless it displays a currently valid OMB control number.

DATES: Comments must be submitted on or before February 6, 2018.

ADDRESSES: Submit your comments, referencing Docket ID No. EPA-HQ-OAR-2017-0599, online using www.regulations.gov (our preferred method), by email to a-and-r-docket@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information for which disclosure is restricted by statute.

FOR FURTHER INFORMATION CONTACT: Anne-Marie Pastorkovich, Attorney/Advisor, Office of Air and Radiation/Office of Transportation and Air Quality, Environmental Protection Agency, 1200 Pennsylvania Ave. NW., (6405A), Washington, DC 20460; telephone number: 202-343-9623; fax number: 202-343-2800; email address: pastorkovich.anne-marie@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

This ICR package is a new information collection that is intended to streamline and update estimates related to RFS. This new collection includes elements of some existing RFS ICRs. The goal of this new, consolidated ICR is to put all RFS estimates into one, consistent, and easy-to-understand format. We hope that this single RFS ICR package will assist interested parties in better understanding all of the information collection activities associated with RFS.

What is the RFS program?

The RFS program was created under the Energy Policy Act of 2005 (EPAct), which amended the Clean Air Act (CAA). The Energy Independence and Security Act of 2007 (EISA) further amended the CAA by expanding the RFS program. EPA implements RFS in consultation with U.S. Department of Agriculture and the Department of Energy. The RFS program is a national policy that requires a certain volume of renewable fuel to replace or reduce the quantity of petroleum-based transportation fuel, heating oil or jet fuel.

Obligated parties under the RFS program are refiners or importers of gasoline or diesel fuel. Obligated parties, and exporters of renewable fuel, must meet an annual Renewable Volume Obligation (RVO). Parties meet their RVO by blending renewable fuels into transportation fuel, or by obtaining credits (called “Renewable Identification Numbers”, or RINs). EPA calculates and establishes RVOs every year through rulemaking, based on the CAA volume requirements and projections of gasoline and diesel production for the coming year. The standards are converted into a percentage and obligated parties must demonstrate compliance annually. RINs are the credits that obligated parties use to demonstrate compliance with the standard. RINS are generated by producers and importers of renewable fuels and traded by various parties. Obligated parties must obtain sufficient RINs for each category in order to demonstrate compliance with the annual standard.

In order to track compliance with the RFS program, various parties involved with the production and blending of renewable fuels, and who generate, trade or use RINs, must register with EPA and submit various types of compliance reports related to the activity they engage in under the program. Our estimates as to burden are explained in the supporting statement that has been placed in the public docket. Domestic and foreign entities may be subject to these regulations and to the associated information collection. The RFS program was developed with certain flexibilities, including for small entities such as small refiners and small refineries, small blenders, and small volume production facilities and importers.

What are the recordkeeping and reporting requirements associated with the RFS program?

The reporting requirements of the RFS program typically fall under registration and compliance reporting. Recordkeeping requirements include product transfer documents (PTDs) and retention of records that support items reported. Recordkeeping and reporting are based upon the role the party fills under the regulations. A party may be registered in more than one role. Basing the recordkeeping and reporting upon a party's roles in the program ensures that parties must sustain only the burden necessary under the program. EPA continuously assesses its registration and reporting systems in an effort to provide the best possible service to the regulated community and in order to enhance, simplify, and streamline the experience. Because RFS relies upon a marketplace of RINs, EPA has created and maintains the EPA Moderated Transaction System (EMTS) capable of handling a high volume of RIN trading activities.

Who are the respondents for the RFS program?

The respondents to this ICR are: RIN Generators (producers and importers of renewable fuel), Obligated Parties (refiners and importers of gasoline and diesel), Exporters (of renewable fuel), RIN Owners, independent third-party Quality Assurance Plan (QAP) Providers, and certain petitioners under the international aggregate compliance approach (such petitions are infrequent). These parties and their associated information collections are described in detail in the supporting statement and tables, which have been placed in the docket.

Which ICRs are being consolidated into this new collection?

This proposed ICR will supersede and replace existing information collection currently approved under the following titles and OMB control numbers (with expiration dates shown):

• Renewable Fuels Standard Program (RFS2-Supplemental), OMB Control Number 2060-0637; expires 10/31/2017;

• Renewable Fuel Standard (RFS2) Program, OMB Control Number 2060-0640; expires 10/31/2017;

• RFS2 Voluntary RIN Quality Assurance Program, OMB Control Number 2060-0688; expires 4/30/2019; and

• Cellulosic Production Volume Projections and Efficient Producer Reporting, OMB Control Number 2060-0707, expires 12/31/2019.

This proposed new ICR includes burdens associated with Renewable Fuel Pathways II and Technical Amendments to the RFS2 Standards, for which a final rule was published on July 18, 2014. 79 FR 42128. Although ICR estimates were prepared for the proposed rule, it appears they were not submitted to OMB with the final rule through an administrative error. This proposed new ICR also includes burdens associated with the following previously approved, but not currently approved, ICRs: Regulation of Fuel and Fuel Additives: 2011 Renewable Fuel Standards—Petition for International Aggregate Compliance Approach, OMB Control Number 2060-0655; expired 5/31/2017; and Production Outlook Report for Unregistered Renewable Fuels Producers, OMB Control Number 2060-0660; expired 7/31/2017.

Form Numbers: RFS0104: RFS Activity Report, RFS0303: RFS Annual Compliance Report, RFS0601: RFS Renewable Fuel Producer Supplemental Report, RFS0701: RFS Renewable Fuel Producer Co-Products Report, RFS0801: RFS Renewable Biomass Report, RFS0901: RFS Production Outlook Report, RFS1400: Reporting Fuels under 80.1451(b)(1)(ii)(T), RFS1500: Reporting Fuels under 80.1451(b)(1)(ii)(T)—Finished Fuel Blending, RFS1600: Reporting Fuels under 80.1451(b)(1)(ii)(T)—Blender Contact, RFS2000: Batch Verification, RFS2100: Aggregate RIN Verification. RFS2200: On-Site Audit Report, RFS2300: List of Potentially Invalid RINs, RFS2400: Mass Balance, RFS2500: RFS Efficient Producer Data Report, RFS2700: RFS Cellulosic Biofuel Producer Questionnaire, EMTS: RFS RIN Generation Report, EMTS: RFS RIN Transaction Report.

Respondents/affected entities: RIN Generators, Obligated Parties, RIN Owners, Exporters, QAP Providers, and Petitioners under the international aggregate compliance approach. These parties include producers and importers of renewable fuels and refiners and importers of gasoline and diesel transportation fuels.

Respondent's obligation to respond: The RFS program represents a mixture of voluntary and mandatory reporting, depending upon activity. A single party may register with multiple program roles—e.g., a party might be both an obligated party and a RIN owner.

Estimated number of respondents: 20,425

Frequency of response: On occasion/daily, quarterly, annual.

Total estimated burden: 530,336 (per year). Burden is defined at 5 CFR 1320.03(b)

Total estimated cost: $52,845,438 (per year), includes $0 annualized capital or operation & maintenance costs.

Dated: November 27, 2017.
Byron J. Bunker,
Director, Compliance Division, Office of Transportation & Air Quality, Office of Air & Radiation.

[FR Doc. 2017-26529 Filed 12-7-17; 8:45 am]

BILLING CODE 6560-50-P